DEPARTMENT OF JUSTICE

Drug Enforcement Administration

Christopher E. Castle, M.D., Revocation of Registration

On March 14, 2002, the Deputy Assistant Administrator, Office of Diversion Control, Drug Enforcement Administration (DEA), issued an Order to Show Cause, Immediate Suspension of Registration, to Christopher E. Castle, M.D. (Dr. Castle) of Seymour, Tennessee, notifying him of an opportunity to show cause as to why DEA should not revoke his DEA Certificate of Registration, BC1157076 under 21 U.S.C. 824(a), and deny any pending applications for renewal or modification of that registration. The order also notified Dr. Castle that should no request for a hearing be filed within 30 days, his hearing right would be deemed waived.

The Order to Show Cause was sent by certified mail to Dr. Castle at his registered location in Seymour, Tennessee. It was also delivered by DEA Investigators to Dr. Castle and his legal counsel on March 19, 2002, at the Blount County Jail in Maryville, Tennessee, where Dr. Castle was incarcerated.

DEA has not received a request for hearing or any other reply from Dr. Castle or anyone purporting to represent him in this matter. Therefore, the Deputy Administrator, finding that (1) 30 days have passed since the receipt of the Order to Show Cause, and (2) no request for a hearing having been received, concludes that Dr. Castle is deemed to have waived his hearing right. After considering material from the investigative file in this matter, the Deputy Administrator now enters his final order without a hearing pursuant to 21 CFR 1301.43(d) and (e) and 1301.46.

On November 4, 1987, Dr. Castle obtained DEA Certificate of Registration Number BC1157076, as a practitioner in Schedules II through V. That registration remained valid until August 31, 2002. Pursuant to 21 CFR 1301.36(i), the Deputy Administrator will extend the registration for purposes of this revocation proceeding. On June 3, 2001, the Sevierville (Tennessee) Sheriff's Department arrested an individual referred herein as “RS,” and charged him with various offenses related to the possession of controlled substances with intent to distribute. At the time of his arrest, “RS” was in possession of controlled substances from prescriptions that were issued by Dr. Castle. During a subsequent interview of “RS” by the Sevierville Sheriff's Department he informed law enforcement authorities that during his association with Dr. Castle, and in exchange for controlled substance prescriptions, he along with his spouse provided personal services to Dr. Castle, including installation of cabinets and repair of a garage door. “RS” further informed law enforcement authorities that on numerous occasions, he and his spouse were able to obtain from Dr. Castle prescriptions for any controlled substance they desired, in exchange for cash. Included among the drugs that Dr. Castle authorized for the couple in exchange for cash were Adderall and OxyContin, both highly abused Schedule II controlled substances. A subsequent investigation by DEA revealed that “RS” sold controlled substances to other individuals from prescriptions issued by Dr. Castle.

“RS” also informed law enforcement authorities that while visiting Dr. Castle's home on a prior occasion, he observed several of Dr. Castle's blank prescription pads unsecured in various parts of Dr. Castle's home, as well as prescriptions vials for controlled substances in the names of other individuals. “RS” also recounted one instance where Dr. Castle provided to him OxyContin tablets for his personal use, and for controlled substances in the names of other individuals. “RS”also recounted one instance where Dr. Castle provided to him OxyContin tablets for his personal use, and for no legitimate medical purpose. “RS” further informed law enforcement authorities that he informed Dr. Castle of his June 3, 2001 arrest on drug possession charges. Nevertheless, a subsequent review by DEA of prescription information regarding “RS” revealed that between January and August 2001, Dr. Castle issued prescriptions totaling 900 dosage units of OxyContin 40mg., and 90 dosage units of OxyContin 80mg. Dr. Castle continued issuing controlled substance prescriptions for “RS” up until October 3, 2001, despite Dr. Castle's knowledge of his drug arrest.

In response to the above information, in August 2001, the Tennessee Bureau of Investigation (TBI), the United States Department of Health and Human Services (HHS), and the Sevierville Sheriff's Department initiated investigation of Dr. Castle's medical practice. During a surveillance of Dr. Castle's office, law enforcement agents observed a high volume of persons entering in, and exiting the office for the purpose of obtaining prescriptions. These office visits typically lasted five minutes or less, and some of these individuals had been identified by local law enforcement agents as having prior drug related convictions and/or under investigation for illegal drug violations.

On October 3, 2001, the State of Tennessee, Department of Health (Department of Health) issued to Dr. Castle a Notice of Charges and Memorandum of Assessment of Civil Penalty. In the Notice of Charges, the Department of Health alleged, among other things, that with respect to its review of Dr. Castle's treatment of eleven patients, Dr. Castle issued prescriptions for controlled substances months before actually examining a patient, and that Dr. Castle dispensed, prescribed, or otherwise distributed controlled substances outside of Dr. Castle's professional practice, and not in good faith to relieve pain or suffering. Specifically, the Department of Health alleged Dr. Castle's improper prescribing with respect to patients referred herein as “DE” and his spouse “JE.”

The Notice of Charges further proposed that Dr. Castle pay civil penalties in the amount of $16,500, and that the State Board of Medicine make a determination as to whether Dr. Castle's medical license be suspended, revoked or otherwise disciplined. That matter is currently pending resolution.

On October 19, 2001, a search warrant was executed at Dr. Castle's office by agents from TBI, HHS, the Tennessee Valley Authority, and the Sevierville County Drug Task Force. During the execution of the warrant, agents seized several patient files, and interviewed an employee of Dr. Castle's office. Dr. Castle's employee confirmed that several of Dr. Castle's patients obtained controlled substance prescriptions in exchange for cash.

On October 19, 2001, Special Agents from HHS, as well as TBI and DEA investigators interviewed a former medical assistant/laboratory technician employed by Dr. Castle's office. The individual informed law enforcement personnel that one occasion, when Dr. Castle was absent from his office in August 2001, Dr. Castle authorized his staff to fill in names, dates, and quantities of controlled substances prescribed on pre-signed prescriptions. These prescriptions were not dated on, or signed on the day when issued as required by 21 CFR 1306.05.

On November 14, 2001, Special Agents from HHS, TBI and the Tennessee Office of Inspector General interviewed another individual herein referred to as “CLF,” a former patient as well as a personal acquaintance of Dr. Castle. “CLF” informed law enforcement personnel that over a period of several months, Dr. Castle routinely prescribed Adderall in “CLF's” name, and had her return portions of the filled prescription to Dr. Castle for his personal use. “CLF” further informed that Dr. Castle never performed a physical examination before writing prescriptions in her name, and that Dr. Castle frequently issued prescriptions while dining with her in a local restaurant.

In December 2001, Dr. Castle was named as a defendant in a $2,500,000 civil lawsuit filed in Sevier County Circuit Court by a former employee of Dr. Castle's medical practice. The suit alleged in part that Dr. Castle provided pain medications to his former employee when she was sixteen years old, prescribed pain medications while she was pregnant, and contributed to her addiction until the time she left Dr. Castle's employ at the age of twenty-one. The suit further alleges that Dr. Castle's actions contributed to the December 6, 2000, overdose on pain medications by the employee, which eventually led her to seek detoxification the following week. That matter is also pending resolution.

On January 10, 2002, DEA investigators conducted surveys of three pharmacies where several of Dr. Castle's patients had prescriptions filled: the pharmacies were Jabo's Pharmacy located in Newport, Tennessee; Murphy's Sav-Mor Pharmacy located in Jefferson City, Tennessee; and Mugford's Pharmacy located in Knoxville, Tennessee. The surveys revealed, that following the issuance to Dr. Castle of the Notice of Charges, as well as the execution of a search warrant at Dr. Castle's office, Dr. Castle continued to issue numerous Schedule II through IV controlled substance prescriptions for “DE” and “JE.” As noted above in paragraph six, the Department of Health alleged Dr. Castle's improper prescribing with respect to patients “DE” and his spouse “JE.” DEA's investigation revealed that between October 15, 2001 to January 12, 2002, these individuals had their prescriptions filled at different pharmacies including each of the above pharmacies.

DEA's review of prescriptions authorized by Dr. Castle, and obtained from Murphy's Sav-Mor Pharmacy revealed a Dandridge, Tennessee home address for “DE” and “JE.” Yet, a review of written prescriptions filled by “DE” and “JE” at Mugford's Pharmacy revealed a Knoxville, Tennessee home address for the couple. These addresses were not included on the prescriptions that were issued by Dr. Castle, and were added to the prescriptions by someone other than Dr. Castle. A subsequent investigation by DEA revealed that Dr. Castle failed to list addresses on prescriptions issued to “DE” and “JE,” as well as numerous prescriptions issued to other patients, as required by 21 CFR 1306.05(a).

On February 11, 2002, Special Agents from HHS, TBI and the Tennessee Office of Inspector General interviewed an individual herein referred to as “JS.” “JS” informed law enforcement officials that he had a long-term history of narcotic abuse and had purchased OxyContin from “RS” (referenced in paragraphs two through four above). “JS” further informed that Dr. Castle wrote prescriptions for OxyContin and Adderall for him in the name of the wife of “JS.” “JS” further informed law enforcement personnel that his wife had never been to Dr. Castle's office, and was not aware that Dr. Castle issued prescriptions in her name for “JS.” “JS” also informed that Dr. Castle created fictitious patient information in the name of his wife. Law enforcement personnel from the above agencies later conducted an interview of the wife of “JS” and she confirmed that she had never received any controlled substance prescriptions from Dr. Castle, nor had she ever visited Dr. Castle's office.

The investigation of Dr. Castle's practice also revealed that on or around September 6, 2001, “JS” requested that Dr. Castle send to him a prescription for OxyContin in his wife's name. Several days later, “JS” found the requested prescription in his mail box in his wife's name, which had been mailed from Dr. Castle's office and signed by Dr. Castle. DEA's investigation further revealed that between November and December 2001, Dr. Castle issued several Schedule II controlled substance prescriptions for “JS” in his wife's name.

On February 21, 2002, the Sevier County Street Crimes Unit executed a search warrant at Dr. Castle's medical practice. During the execution of the warrant, law enforcement officers recovered from Dr. Castle's person several syringes, including some that had been used. The syringes contained Adderall.

In November 2001, Dr. Castle was indicted in the United States District Court, Eastern District of Tennessee, on one count of possession of child pornography. However, after posting a $50,000 bond, Dr. Castle was granted pretrial release on November 7, 2001. As a condition of Dr. Castle's release, Dr. Castle was ordered not to download child pornography from Dr. Castle's personal computer, carry a firearm, or engage in the personal use of drugs. Nevertheless, an investigation by the Tennessee Office of Inspector General revealed that Dr. Castle continued to download child pornography in violation of a condition set by Dr. Castle's pretrial release. As a result, on February 26, 2002, the court ordered the revocation of Dr. Castle's bond, and further ordered Dr. Castle detained until Dr. Castle's May 7, 2002, trial on a charge of possession of child pornography.

In view of the foregoing, and pursuant to 21 U.S.C. 824(d), I find that Christopher E. Castle, M.D. has been responsible for the diversion of large quantities of controlled substances into other than legitimate medical channels. It is my conclusion that Dr. Castle has committed such acts as would render his continued registration inconsistent with the public interest. 21 U.S.C. 824(a)(4). Accordingly, the Deputy Administrator of the Drug Enforcement Administration, pursuant to the authority vested in him by 21 U.S.C. 823 and 824 and 28 CFR 0.100(b) and 0.104, hereby orders that DEA Certificate of Registration BC1157076, issued to Christopher E. Castle, M.D. be, and it hereby is, revoked. The Deputy Administrator further orders that any pending applications for renewal or modifications of such registration be, and they hereby are, denied. This order is effective December 30, 2002.

Dated: November 12, 2002.
John B. Brown, III,
Deputy Administrator.

[FR Doc. 02-30255 Filed 11-27-02; 8:45 am]

BILLING CODE 4410-09-M